DEPARTMENT OF ENERGY

Federal Energy Regulatory Commission

Combined Notice of Filings #2

Take notice that the Commission received the following electric rate filings:

Docket Numbers: ER10-2124-004; ER10-2125-004; ER10-2127-004; ER10-2128-004; ER10-2130-005; ER10-2132-004; ER10-2133-005; ER10-2137-005; ER10-2131-005; ER10-2138-005; ER10-2139-005; ER10-2140-005; ER10-2141-005; ER10-2764-004; ER11-3872-005; ER11-4044-006; ER11-4046-005; ER12-161-004; ER12-164-004; ER12-645-006.

Applicants: Spring Canyon Energy LLC, Judith Gap Energy LLC, Invenergy TN LLC, Wolverine Creek Energy LLC, Forward Energy LLC, Willow Creek Energy LLC, Sheldon Energy LLC, Beech Ridge Energy LLC, Grand Ridge Energy LLC, Grand Ridge Energy II LLC, Grand Ridge Energy III LLC, Grand Ridge Energy IV LLC, Grand Ridge Energy V LLC, Vantage Wind Energy LLC, Stony Creek Energy LLC, Gratiot County Wind LLC, Gratiot County Wind II LLC, Bishop Hill Energy LLC, Bishop Hill Energy III LLC, California Ridge Wind Energy LLC.

Description: Notification of Change in Facts of Spring Canyon Energy LLC, et al.

Filed Date: 7/30/13.

Accession Number: 20130730-5103.

Comments Due: 5 p.m. ET 8/20/13.

Docket Numbers: ER13-1776-001.

Applicants: Spokane Energy, LLC

Description: Spokane Energy, LLC submits Spokane Energy Amendment to June 25, 2013 Filing to be effective 6/26/2013.

Filed Date: 7/30/13.

Accession Number: 20130730-5076.

Comments Due: 5 p.m. ET 8/20/13.

Docket Numbers: ER13-2053-000.

Applicants: Southern California Edison Company.

Description: Notices of Cancellation with Carson Dominguez Properties, L.P to be effective 3/29/2013.

Filed Date: 7/30/13.

Accession Number: 20130730-5000.

Comments Due: 5 p.m. ET 8/20/13.

Docket Numbers: ER13-2054-000.

Applicants: Pacific Gas and Electric Company.

Description: Pacific Gas and Electric Company submits 3rd Amendment to Extend the PG&E-NCPA Interconnection Agreement to be effective 9/30/2013.

Filed Date: 7/30/13.

Accession Number: 20130730-5001.

Comments Due: 5 p.m. ET 8/20/13.

Docket Numbers: ER13-2055-000.

Applicants: Southern California Edison Company.

Description: Notice of Cancellation with CBP 19 Acres, LLC to be effective 3/29/2013.

Filed Date: 7/30/13.

Accession Number: 20130730-5002.

Comments Due: 5 p.m. ET 8/20/13.

Docket Numbers: ER13-2056-000.

Applicants: Southwest Power Pool, Inc.

Description: 2198R9 Kansas Power Pool NITSA and NOA to be effective 7/1/2013.

Filed Date: 7/30/13.

Accession Number: 20130730-5050.

Comments Due: 5 p.m. ET 8/20/13.

Docket Numbers: ER13-2057-000.

Applicants: BG Energy Merchants, LLC.

Description: Notice of Cancellation of Tariff to be effective 7/31/2013.

Filed Date: 7/30/13.

Accession Number: 20130730-5055.

Comments Due: 5 p.m. ET 8/20/13.

Docket Numbers: ER13-2058-000.

Applicants: Southern California Edison Company.

Description: True-Up SGIA & Distrib Serv Agmt with County Sanitation Districts of LA County to be effective 9/29/2013.

Filed Date: 7/30/13.

Accession Number: 20130730-5068.

Comments Due: 5 p.m. ET 8/20/13.

Docket Numbers: ER13-2059-000.

Applicants: Duke Energy Progress, Inc.

Description: Duke Energy Progress, Inc. submits tariff filing per 35.13(a)(2)(iii: Service Agreement No. 268 under Duke Energy Progress OATT to be effective 7/1/2013.

Filed Date: 7/30/13.

Accession Number: 20130730-5077.

Comments Due: 5 p.m. ET 8/20/13.

Docket Numbers: ER13-2060-000.

Applicants: Niagara Mohawk Power Corporation, New York Independent System Operator, Inc.

Description: Notice of Termination of Service Agreement No. 1743 to be effective 6/30/2013.

Filed Date: 7/30/13.

Accession Number: 20130730-5109.

Comments Due: 5 p.m. ET 8/20/13.

Docket Numbers: ER13-2061-000.

Applicants: Southwest Power Pool, Inc.

Description: 1154R9 Associated Electric Cooperative NITSA and NOA to be effective 7/1/2013.

Filed Date: 7/30/13.

Accession Number: 20130730-5113.

Comments Due: 5 p.m. ET 8/20/13.

Docket Numbers: ER13-2062-000.

Applicants: Niagara Mohawk Power Corporation.

Description: Niagara Mohawk Borderline Sales Tariff Filing to be effective 9/29/2013.

Filed Date: 7/30/13.

Accession Number: 20130730-5123.

Comments Due: 5 p.m. ET 8/20/13

Take notice that the Commission received the following electric securities filings:

Docket Numbers: ES13-37-000.

Applicants: AEP Generating Company, AEP Texas North Company, AEP Texas Central Company, Appalachian Power Company, Indiana Michigan Power Company, Kentucky Power Company, Kingsport Power Company, Public Service Company of Oklahoma, Southwestern Electric Power Company, Wheeling Power Company.

Description: Application under Section 204 of the Federal Power Act for Authorization to Issue Securities of AEP Generating Company, et al.

Filed Date: 7/30/13.

Accession Number: 20130730-5116.

Comments Due: 5 p.m. ET 8/20/13.

Take notice that the Commission received the following land acquisition reports:

Docket Numbers: LA13-2-000.

Applicants: Spring Canyon Energy LLC, Judith Gap Energy LLC, Invenergy TN LLC, Wolverine Creek Energy LLC, Grays Harbor Energy LLC, Forward Energy LLC, Willow Creek Energy LLC, Sheldon Energy LLC, Hardee Power Partners Limited, Spindle Hill Energy LLC, Invenergy Cannon Falls LLC, Beech Ridge Energy LLC, Grand Ridge Energy LLC, Grand Ridge Energy II LLC, Grand Ridge Energy III LLC, Grand Ridge Energy IV LLC, Grand Ridge Energy V LLC, Vantage Wind Energy LLC, Stony Creek Energy LLC, Gratiot County Wind LLC, Gratiot County Wind II LLC, Bishop Hill Energy LLC, Bishop Hill Energy III LLC, California Ridge Wind Energy LLC.

Description: Quarterly Land Acquisition Report of Spring Canyon Energy LLC, et al.

Filed Date: 7/30/13.

Accession Number: 20130730-5070.

Comments Due: 5 p.m. ET 8/20/13.

Docket Numbers: LA13-2-000.

Applicants: Bishop Hill Energy II LLC, Cordova Energy Company LLC, MidAmerican Energy Company, Saranac Power Partners, L.P.

Description: Quarterly Land Acquisition Report of the MidAmerican Parties.

Filed Date: 7/30/13.

Accession Number: 20130730-5072.

Comments Due: 5 p.m. ET 8/20/13.

Docket Numbers: LA13-2-000.

Applicants: Alabama Electric Marketing, LLC, Big Sandy Peaker Plant, LLC, California Electric Marketing, LLC, Crete Energy Venture, LLC, CSOLAR IV South, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Texas Electric Marketing, LLC, TPF Generation Holdings, LLC, Wolf Hills Energy, LLC.

Description: Quarterly Land Acquisition Report of the Tenaska MBR Sellers.

Filed Date: 7/30/13.

Accession Number: 20130730-5073.

Comments Due: 5 p.m. ET 8/20/13.

Docket Numbers: LA13-2-000.

Applicants: Astoria Generating Company, L.P.

Description: Quarterly Land Acquisition Report of Astoria Generating Company, L.P.

Filed Date: 7/30/13.

Accession Number: 20130730-5075.

Comments Due: 5 p.m. ET 8/20/13.

Docket Numbers: LA13-2-000.

Applicants: Arlington Valley Solar Energy II, LLC, Bluegrass Generation Company, L.L.C., Calhoun Power Company, LLC, Centinela Solar Energy, LLC, Cherokee County Cogeneration Partners, LLC, DeSoto County Generating Company, LLC, Doswell Limited Partnership, Las Vegas Power Company, LLC, LS Power Marketing, LLC, LSP Safe Harbor Holdings, LLC, LSP University Park, LLC, Renaissance Power, L.L.C., Riverside Generating Company, L.L.C., Rocky Road Power, LLC, Tilton Energy LLC, University Park Energy, LLC, Wallingford Energy LLC.

Description: Quarterly Land Acquisition Report of the LS MBR Sellers.

Filed Date: 7/30/13.

Accession Number: 20130730-5119.

Comments Due: 5 p.m. ET 8/20/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2013.
Nathaniel J. Davis, Sr.,
Deputy Secretary.

[FR Doc. 2013-19582 Filed 8-13-13; 8:45 am]

BILLING CODE 6717-01-P